DEPARTMENT OF DEFENSE

Department of the Army

[Docket ID: USA-2021-HQ-0017]

Submission for OMB Review; Comment Request

AGENCY: U.S. Army Corps of Engineers, Department of the Army, Department of Defense (DoD).

ACTION: 30-day information collection notice.

SUMMARY: The Department of Defense has submitted to OMB for clearance the following proposal for collection of information under the provisions of the Paperwork Reduction Act.

DATES: Consideration will be given to all comments received by November 29, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Rapid Ordinary High Water Mark Field Identification Datasheet; ENG Form 6250; OMB Control Number 0710-OHWM.

Type of Request: New.

Number of Respondents: 45,001.

Responses per Respondent: 1.

Annual Responses: 45,001.

Average Burden per Response: 30 minutes.

Annual Burden Hours: 22,500.5.

Needs and Uses: The U.S. Army Corps of Engineers, through its Regulatory Program, regulates certain activities in waters of the United States. Waters of the United States are defined under 33 CFR part 328. In order for the Corps to determine the amount and extent of waters of the United States at a site, aquatic resources must be geographically delineated in accordance with established Regulatory regulations, policy, and guidance. Non-tidal, non-wetland waters of the United States must be delineated to the extent of the ordinary high water mark (OHWM), which is defined at 33 CFR 328.3(7). The OHWM defines the lateral extent of non-tidal aquatic features in the absence of adjacent wetlands in the United States. The U.S. Army Corps of Engineers Engineer Research and Development Center (ERDC) has drafted the first national manual that provides and describes indicators and a methodology which will help improve consistency in the identification and delineation of the OHWM by (1) providing consistent definitions of OHWM indicators; (2) outlining a clear, step-by-step process for identifying the OHWM using a Weight-of-Evidence approach; and (3) providing a datasheet for logging information at a site. Information collected on OHWM datasheets help inform the lateral limits of the Corps' jurisdiction in non-tidal, non-wetland aquatic resources (e.g., streams or rivers). This information can then be used to inform jurisdictional determinations or permit evaluations. Applicants for Corps permits are generally required to submit delineations of aquatic resources as part of their permit application or in support of the permit evaluation process. The OHWM form will provide applicants with a tool to easily document and submit this information in a consistent format.

Affected Public: Individuals or households.

Frequency: As required.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 25, 2021.
Aaron T. Siegel,
Alternate OSD Federal Register, Liaison Officer, Department of Defense.

[FR Doc. 2021-23546 Filed 10-28-21; 8:45 am]

BILLING CODE 5001-06-P